DEPARTMENT OF AGRICULTURE

Animal and Plant Health Inspection Service

[Docket No. APHIS-2008-0084]

Notice of Decision to Issue Permits for the Importation of Fresh White Asparagus From Senegal Into the Continental United States

AGENCY: Animal and Plant Health Inspection Service, USDA.

ACTION: Notice.

SUMMARY: We are advising the public of our decision to begin issuing permits for the importation into the continental United States of fresh white asparagus from Senegal. Based on the findings of a pest risk analysis, which we made available to the public for review and comment through a previous notice, we believe that the application of one or more designated phytosanitary measures will be sufficient to mitigate the risks of introducing or disseminating plant pests or noxious weeds via the importation of fresh white asparagus from Senegal.

DATES: Effective Date: December 19, 2008.

FOR FURTHER INFORMATION CONTACT: Dr. Shirley Wager Pagé, Branch Chief, Commodity Import Analysis and Operations Staff, PPQ, APHIS, 4700 River Road, Unit 133, Riverdale, MD 20737-1231; (301) 734-8758.

SUPPLEMENTARY INFORMATION: Under the regulations in “Subpart-Fruits and Vegetables” (7 CFR 319.56 through 319.56-47, referred to below as the regulations), the Animal and Plant Health Inspection Service (APHIS) of the U.S. Department of Agriculture prohibits or restricts the importation of fruits and vegetables into the United States from certain parts of the world to prevent plant pests from being introduced into and spread within the United States.

Section 319.56-4 of the regulations contains a performance-based process for approving the importation of commodities that, based on the findings of a pest risk analysis, can be safely imported subject to one or more of the designated phytosanitary measures listed in paragraph (b) of that section. Under that process, APHIS publishes a notice in the Federal Register announcing the availability of the pest risk analysis that evaluates the risks associated with the importation of a particular fruit or vegetable. Following the close of the 60-day comment period, APHIS may begin issuing permits for importation of the fruit or vegetable subject to the identified designated measures if: (1) No comments were received on the pest risk analysis; (2) the comments on the pest risk analysis revealed that no changes to the pest risk analysis were necessary; or (3) changes to the pest risk analysis were made in response to public comments, but the changes did not affect the overall conclusions of the analysis and the Administrator's determination of risk.

In accordance with that process, we published a notice ¹ in the Federal Register on August 18, 2008 (73 FR 48189-48190, Docket No. APHIS-2008-0084), in which we announced the availability, for review and comment, of a pest risk analysis that evaluates the risks associated with the importation into the continental United States of fresh white asparagus from Senegal. We solicited comments on the notice for 60 days ending on October 17, 2008. We received one comment by that date, from a State department of agriculture. The commenter agreed that the mitigation measures described in the pest risk analysis would be adequate.

¹ To view the notice and the pest risk analysis, go to http://www.regulations.gov/fdmspublic/component/main?main=DocketDetail&d=APHIS-2008-0084.

Therefore, in accordance with the regulations in § 319.56-4(c)(2)(ii), we are announcing our decision to begin issuing permits for the importation into the continental United States of fresh white asparagus from Senegal subject to the following phytosanitary measures:

• Each shipment of white asparagus must be accompanied by a phytosanitary certificate bearing the following additional declaration: “The white asparagus in this consignment has been inspected and found free of Cochliobolus pallescens (Curvulaia pallescens).” The phytosanitary certificate with the additional declaration must be issued by the national plant protection organization of Senegal.

• Each shipment is subject to inspection upon arrival in the United States.

• The white asparagus must be a commercial consignment as defined in 7 CFR 319.56-2.

These conditions will be listed in the Fruits and Vegetables Import Requirements database (available at http://www.aphis.usda.gov/favir). In addition to those specific measures, the fresh white asparagus will be subject to the general requirements listed in § 319.56-3 that are applicable to the importation of all fruits and vegetables.

Authority: 7 U.S.C. 450, 7701-7772, and 7781-7786; 21 U.S.C. 136 and 136a; 7 CFR 2.22, 2.80, and 371.3.

Done in Washington, DC, this 15th day of December 2008.
Kevin Shea,
Acting Administrator, Animal and Plant Health Inspection Service.

[FR Doc. E8-30216 Filed 12-18-08; 8:45 am]

BILLING CODE 3410-34-P